FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 10, 2008.

A. Federal Reserve Bank of Kansas City (Todd Offenbacker, Assistant Vice President) 1 Memorial Drive, Kansas City, Missouri 64198-0001:

1. Donald L. Howell, Houston, Texas, individually and as trustee of the FNB Financial Services, Inc. Employee Stock Ownership Plan, and as trustee of the Anne Turner Howell Trust; Donald L. Howell and Hilton H. Howell, Jr., all of Atlanta, Georgia; Brian E. Howell and Donna Howell, both of Waco, Texas; and Alison Howell Malone, Dallas, Texas; acting as a group in concert, to acquire voting shares of FNB Financial Services, Inc., and thereby indirectly acquire voting shares of First Texoma National Bank, both in Durant, Oklahoma.

Board of Governors of the Federal Reserve System, June 20, 2008.
Robert deV. Frierson,
Deputy Secretary of the Board.

[FR Doc. E8-14406 Filed 6-25-08; 8:45 am]

BILLING CODE 6210-01-S